DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. chapter 35). To request a copy of these documents, call the SAMHSA Reports Clearance Officer on (240) 276-1243.

Proposed Project: 2006 Client/Patient Sample Survey—New

The Substance Abuse and Mental Health Services Administration (SAMHSA), Center for Mental Health Services (CMHS) will conduct a sample survey of mental health programs (i.e., inpatient, residential, and less than 24-hour care) within specialty mental health organizations. These organizations include psychiatric hospitals, general hospitals with separate psychiatric services, multiservice mental health organizations, residential treatment centers, and freestanding outpatient clinics and partial care organizations.

A sample of approximately 2,500 mental health organizations/programs will provide information on an average sample of 8 admissions and 8 persons under care in the programs. National estimates will be generated on the number of persons admitted to and under care in these organizations, and on the sociodemographic, clinical, and service use characteristics of these persons. This survey will update a previous sample survey conducted in 1997 (OMB No. 0930-0114).

In addition, the 2006 survey will include a consumer survey for the sampled adults under care in the less than 24-hour programs to obtain consumers’ perceptions of care received. Respondents will have the option of responding electronically.

The annual burden estimate is shown below:

Respondent | Number of respondents | Number of responses per respondent | Average burden/ response (hrs.) | Total annual burden (hrs.)
Mental Health Organization/Program | 2,500 | 1 | 5.25 | 13,125
Consumer | 6,000 | 1 | 0.25 | 1,500
Total | 8,500 |  |  | 14,625

Written comments and recommendations concerning the proposed information collection should be sent by August 2, 2006 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: June 27, 2006.
Anna Marsh,
Director, Office of Program Services.

[FR Doc. E6-10351 Filed 6-30-06; 8:45 am]

BILLING CODE 4162-20-P